DEPARTMENT OF ENERGY

Federal Energy Regulatory Commission

Sunshine Act Meetings

June 7, 2000.

The following notice of meeting is published pursuant to section 3(A) of the Government in the Sunshine Act (Pub. L. No. 94-409), 5 U.S.C 552B:

AGENCY HOLDING MEETING: Federal Energy Regulatory Commission.

DATE AND TIME: June 14, 2000, 10:00 a.m.

PLACE: Room 2C, 888 First Street, N.E., Washington, D.C. 20426.

STATUS: Open.

MATTERS TO BE CONSIDERED: Agenda.

* NOTE: Items listed on the agenda may be deleted without further notice.

CONTACT PERSON FOR MORE INFORMATION: David P. Boergers, Secretary, Telephone (202) 208-0400, For a recording listing items stricken from or added to the meeting, call (202) 208-1627.

This is a list of matters to be considered by the Commission. It does not include a listing of all papers relevant to the items on the agenda; however, all public documents may be examined in the reference and information center.

743rd—Meeting June 14, 2000, Regular Meeting (10:00 a.m.)

Consent Agenda—Markets, Tariffs and Rates—Electric

CAE-1.

Docket# ER00-2295, 000, Wisconsin Public Service Corporation

CAE-2.

Omitted

CAE-3.

Docket# ER00-2208, 000, California Independent System Operator Corporation

CAE-4.

Docket# ER00-2256, 000, TXU Electric Company

Other#s ER00-2257, 000, TXU Electric Company and TXU Sesco

CAE-5.

Docket# ER00-2268, 000, Pinnacle West Capital Corporation

CAE-6.

Omitted

CAE-7.

Docket# ER00-2274, 000, California Independent System Operator Corporation

CAE-8.

Docket# ER00-2309, 000, Allegheny Energy Supply Company, L.L.C., The Potomac Edison Company and West Penn Power Company

CAE-9.

Docket# ER00-2297, 000, New England Power Pool

CAE-10.

Omitted

CAE-11.

Omitted

CAE-12.

Docket# ER00-2148, 000, New England Power Pool

CAE-13.

Docket# ER00-1655, 000, Southern Company Services, Inc.

Other#s ER00-1655 001 Southern Company Services, Inc.

CAE-14.

Omitted

CAE-15.

Docket# ER00-1711, 000, Public Service Company of New Mexico

Other#s EL00-46, 000, Entergy Power Marketing Corporation v. Southwest Power Pool, Inc.

EL00-53, 000, Texas-New Mexico Power Company v. Public Service Company of New Mexico

ER00-1829, 000, Southwest Power Pool, Inc.

CAE-16.

Docket# ER00-175, 000, Utilicorp United Inc.

Other#s ER00-175 001 Utilicorp United Inc.

CAE-17.

Docket# OA96-194, 000, Niagara Mohawk Power Corporation

CAE-18.

Omitted

CAE-19.

Docket# EC00-66, 000, Consolidated Water Power Company Stora Enso OYJ

CAE-20.

Docket# ER99-2770 001 Florida Power & Light Company

Other#s EL99-69 001 Florida Power & Light Company

CAE-21.

Omitted

CAE-22.

Omitted

CAE-23.

Docket# EF99-3021 001 United States Department of Energy—Southeastern Power Administration

CAE-24.

Docket# OA97-163 009 Mid-Continent Area Power Pool

Other#s OA97-658 009 Mid-Continent Area Power Pool

ER97-1162 008 Mid-Continent Area Power Pool

CAE-25.

Docket# ER00-1598 001 Baltimore Gas & Electric Company, Calvert Cliffs, Inc., Constellation Generation, Inc. and Constellation Power Source, Inc.

CAE-26.

Omitted

CAE-27.

Docket# EL00-12 001 Tennessee Power Company

CAE-28.

Docket# OA00-5, 000, Commonwealth Edison Company and Commonwealth Edison Company of Indiana, Inc.

CAE-29.

Docket# NJ00-2, 000, Department of Energy—Bonneville Power Adminstration

CAE-30.

Omitted

Consent Agenda—Markets, Tariffs and Rates—Gas

CAG-1.

Docket# RP00-289, 000, Tennessee Gas Pipeline Company

CAG-2.

Docket# RP96-383 004 Dominion Transmission, Inc. (formerly CNG Transmission Corporation)

CAG-3.

Docket# RP00-284, 000, Southern Natural Gas Company

CAG-4.

Docket# RP00-243, 000, Alliance Pipeline L.P.

CAG-5.

Omitted

CAG-6.

Omitted

CAG-7.

Docket# RP98-249, 000, Columbia Gas Transmission Corporation

Other#s RP98-250, 000, Columbia Gulf Transmission Company

CAG-8.

Docket# TM00-1-22, 001, Dominion Transmission, Inc. (formerly CNG Transmmission Corporation)

CAG-9.

Docket# RP00-24, 005, Transcontinental Gas Pipe Line Corporation

CAG-10.

Docket# RP97-287, 050, El Paso Natural Gas Company

CAG-11.

Docket# PR00-5, 001, Coral Mexico Pipeline, L.L.C.

Other#s PR00-5, 000, Coral Mexico Pipeline, L.L.C.

Consent Agenda—Energy Projects—Hydro

CAH-1.

Omitted

CAH-2.

Docket# P-2588, 005, City of Kaukauna, Wisconsin

CAH-3.

Omitted

CAH-4.

Docket# P-2543, 045, Montana Power Company

Consent Agenda—Energy Projects—Certificates

CAC-1.

Docket# CP00-196, 000, Transcontinental Gas Pipe Line Corporation

CAC-2.

Docket# CP00-36, 000, Guardian Pipeline L.L.C.

Other#s CP00-37, 000, Guardian Pipeline L.L.C.

CP00-38, 000, Guardian Pipeline L.L.C.

CAC-3.

Omitted

CAC-4.

Docket# CP96-684, 001, Interenergy Sheffield Processing Company and Bear Paw Energy, L.L.C.

CAC-5.

Docket# CP00-58, 000, Columbia Gas Transmission Corporation

CAC-6.

Omitted

CAC-7.

Omitted

CAC-8.

Omitted

CAC-9.

Docket# RM98-17, 002, Landowners Notification Expanded Categorical Exclusions and Other Environmental Filing Requirements

CAC-10.

Omitted

Energy Projects—Hydro Agenda

H-1. Reserved

Energy Projects—Certificates Agenda

C-1.

Reserved

Markets, Tariffs and Rates—Electric Agenda

E-1.

Reserved

Markets, Tariffs and Rates—Gas Agenda

G-1.

Reserved

David P. Boergers,
Secretary.

[FR Doc. 00-14836 Filed 6-8-00; 10:59 am]

BILLING CODE 6717-01-P